DEPARTMENT OF COMMERCE

National Oceanic and Atmospheric Administration

[RTID 0648-XB169]

Caribbean Fishery Management Council; Public Meeting

AGENCY: National Marine Fisheries Service (NMFS), National Oceanic and Atmospheric Administration (NOAA), Commerce.

ACTION: Notice of a public meeting.

SUMMARY: The Caribbean Fishery Management Council's (Council) Scientific and Statistical Committee (SSC) will hold a public virtual meeting to address the items contained in the tentative agenda included in the SUPPLEMENTARY INFORMATION.

DATES: The public virtual meeting will be held on July 14, 2021, from 10 a.m. to 4 p.m. The meeting will be at Eastern Standard Time.

ADDRESSES:

Join Zoom Meeting

https://us02web.zoom.us/j/87172662536?pwd=dlR3VnVCem5uV1JHa2hiSGZjTVMwZz09

Meeting ID: 871 7266 2536

Passcode: 998029

One tap mobile

+17879667727,,87172662536#,,,,*998029# Puerto Rico

+19399450244,,87172662536#,,,,*998029# Puerto Rico

Dial by your location

+1 787 966 7727 Puerto Rico

+1 939 945 0244 Puerto Rico

+1 787 945 1488 Puerto Rico

Meeting ID: 871 7266 2536

Passcode: 998029

Find your local number: https://us02web.zoom.us/u/kv014d48Y

In case there are problems and we cannot reconnect via Zoom, the meeting will continue using GoToMeeting. You may join from a computer, tablet or smartphone by entering the following address:

https://global.gotomeeting.com/join/715099885

Join from a video-conferencing room or system.

Dial in or type: 67.217.95.2 or inroomlink.goto.com Meeting ID: 715 099 885 Or dial directly: 715099885@67.217.95.2 or 67.217.95.2##715099885

New to GoToMeeting? Get the app now and be ready when the meeting starts: https://global.gotomeeting.com/install/715099885.

FOR FURTHER INFORMATION CONTACT: Graciela García-Moliner, Caribbean Fishery Management Council, 270 Muñoz Rivera Avenue, Suite 401, San Juan, Puerto Rico 00918-1903, telephone: (787) 403-8337.

SUPPLEMENTARY INFORMATION: The following items included in the tentative agenda will be discussed:

July 14, 2021

10 a.m.-10:15 a.m.

Call to Order

Roll Call

Adoption of the Agenda

10:15 a.m.-10:45 a.m.

National SSC August 2020: update 2022

Introduction Caribbean Branches SEFSC-SERO Staff

10:45 a.m.-11:45 a.m.

Draft Tech Memo Data Poor ACLs

SSC Recommendations to CFMC

11:45 a.m.-12:45 p.m.

Dr. Schärer's letter to CFMC (2021 Update to west coast red hind FSA (caribbeanfmc.com))

SSC Recommendations to CFMC

12:45 p.m.-1:45 p.m.

Lunch Break

1:45 p.m.-2:45 p.m.

Electronic Monitoring (ET_Presentation.pdf(caribbeanfmc.com)) (E_reporting_status_April_2021_for_CFMC.pdf(caribbeanfmc.com))

2:45 p.m.-4:00 p.m.

Other Business

Adjourn

The order of business may be adjusted as necessary to accommodate the completion of agenda items. The meeting will begin on July 14, 2021, at 10 a.m. EST, and will end at 4 p.m. EST. Other than the start time, interested parties should be aware that discussions may start earlier or later than indicated, at the discretion of the Chair. In addition, the meeting may be completed prior to the date established in this notice.

Special Accommodations

Simultaneous interpretation will be provided. To receive interpretation in Spanish you can dial into the meeting as follows:

US/Canada: call +1-888-947-3988, when system answers, enter 1*999996#. Para interpretación en inglés marcar:

US/Canada: call +1-888-947-3988, cuando el sistema conteste, entrar el siguiente número 2*999996#.

For any additional information on this public virtual meeting, please contact Dr. Graciela García-Moliner, Caribbean Fishery Management Council, 270 Muñoz Rivera Avenue, Suite 401, San Juan, Puerto Rico, 00918-1903, telephone: (787) 403-8337.

Authority: 16 U.S.C. 1801 et seq.

Dated: June 21, 2021.
Tracey L. Thompson,
Acting Deputy Director, Office of Sustainable Fisheries, National Marine Fisheries Service.

[FR Doc. 2021-13385 Filed 6-23-21; 8:45 am]

BILLING CODE 3510-22-P